EMERGENCY STEEL LOAN GUARANTY BOARD

Proposed Information Collection; Comment Request; Emergency Steel Loan Guaranty Board—Guarantee Agreement

ACTION: Notice.

SUMMARY: The Emergency Steel Loan Guaranty Board (ESLGB), as of its continuing effort to reduce paperwork and respondent burden, invites the general public and other Federal agencies to comment on the continuing and proposed information collection, as required by the Paperwork Reduction Act of 1995, Public Law 104-13 (44 U.S.C. 3506(c)(2)(A)).

DATES: Written comments must be submitted on or before August 2, 2004.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information should be directed to the attention of Marguerite Owen, General Counsel, ESLGB, (202) 482-0531 or mowen@doc.gov.

SUPPLEMENTARY INFORMATION

I. Abstract

Chapter 1, Public Law 106-51, “The Emergency Steel Loan Guarantee Act of 1999” (“Act”) established an Emergency Steel Loan Guarantee Program (“Program”) which is designed to provide guaranteed loans to qualified steel and iron ore companies by private banking and investment institutions. A Board composed of the Chairman of the Federal Reserve Board, the Chairman on the Securities and Exchange Commission, and the Secretary of the Department of Commerce (“Board”) has been given the responsibility to oversee this Program.

A loan guarantee may be issued upon application to the Board by a private banking or investment institution, which proposes to enter into an agreement to provide a loan to a qualified steel company. A qualified steel company is defined in the Act to mean any company that: (A) Is incorporated under the laws of any State; (B) is engaged in the production and manufacture of a steel mill product; and (C) has experienced layoffs, production losses, or financial losses since January 1998. The Act established several conditions applicable to each loan guarantee issued by the Board.

Subsequent to the review of an application by the Board, a successful applicant will be required to sign a guarantee agreement as a condition of receiving the loan guarantee from the Board. The guarantee agreement provides the terms and conditions of the loan guarantee, and sets forth the requirements, including reporting and record keeping, that the lender must meet for the guarantee to remain in force.

When the program's authorizing legislation was initially enacted, the Board's authority to issue guarantees was scheduled to terminate on December 31, 2001, and guaranteed loans were required to be repaid by December 31, 2005. Public Law 107-63 extended the Board's authority to guarantee loans through December 31, 2003 and extended the date by which all guaranteed loans must be paid in full to no later than December 31, 2015. The authority to issue new loan guarantees, in fact, expired on December 31, 2003. As such, the Board had not previously requested an extension of Paperwork Reduction Act (PRA) approval for its various information collections associated with issuance of new guarantees. However, the authority to issue new loan guarantees was restored by section 211 of Public Law 108-199, enacted January 23, 2004. This law extended the Board's authority to issue new loan guarantees through December 31, 2005. Thus, the Board needs to reinstate, and receive PRA approval for, its previously existing information collection.

II. Method of Collection

The signed final guarantee documents for the individual loan guarantees will be submitted in hard copy because they will contain privileged financial and commercial information that is protected from disclosure under the Freedom of Information Act (FOIA).

III. Data

OMB Number: 3004-0002.

Form Number(s): ESLB-1.

Type of Review: Regular submission.

Affected Public: Business and other for-profit organizations.

Estimated Number of Respondents: 2.

Estimated Time Per Response: 15 to 75 hours.

Estimated Total Annual Respondent Burden Hours: 150.

Estimated Annual Cost to the Public: $4,980.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: May 25, 2004.
Marguerite Owen,
General Counsel, Emergency Steel Loan Guaranty Board.

[FR Doc. 04-12203 Filed 5-28-04; 8:45 am]

BILLING CODE 3510-07-P